SMALL BUSINESS ADMINISTRATION

[Disaster Declaration #15429 and #15430; New Hampshire Disaster Number NH-00040]

Presidential Declaration Amendment of a Major Disaster for Public Assistance Only for the State of New Hampshire

AGENCY: U.S. Small Business Administration.

ACTION: Amendment 1.

SUMMARY: This is an amendment of the Presidential declaration of a major disaster for public assistance only for the state of New Hampshire (FEMA-4355-DR), dated 01/02/2018.

Incident: Severe Storm and Flooding.

Incident Period: 10/29/2017 through 11/01/2017.

DATES: Issued on 02/08/2018.

Physical Loan Application Deadline Date: 03/05/2018.

Economic Injury (EIDL) Loan Application Deadline Date: 10/02/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of New Hampshire, dated 01/02/2018, is hereby amended to include the following areas as adversely affected by the disaster.

Primary Counties: Merrimack

All other information in the original declaration remains unchanged.

(Catalog of Federal Domestic Assistance Number 59008)

James E. Rivera,
Associate Administrator for Disaster Assistance.

[FR Doc. 2018-03338 Filed 2-16-18; 8:45 am]

BILLING CODE 8025-01-P